DEPARTMENT OF ENERGY

Federal Energy Regulatory Commission

Notice of Settlement Agreement and Soliciting Comments

June 27, 2001.

a. Type of Application: Settlement Agreement on New License Application.

b. Project No.: 1927-008.

c. Date filed: June 21, 2001.

d. Applicant: PacifiCorp.

e. Name of Project: North Umpqua Hydroelectric Project.

f. Location: On the North Umpqua River, in Douglas County, Oregon. The project occupies about 2, 725 acres of land within the Umpqua National Forest, and about 117 acres of land administered by the Bureau of Land Management.

g. Filed Pursuant to: Rule 602 of the Commission's Rules of Practice and Procedure, 18 CFR 385.602.

h. Applicant Contact: Timothy C. O'Connor, Director, Hydro Operations, PacifiCorp 825 Multnomah, Suite 1500, Portland, OR 97232, (503) 813-6660, and James M. Lynch, Stoel Rives LLP, 600 University Street, Suite 3600, Seattle, WA 98101-3197, (206) 624-0900.

i. FERC Contact: John Smith, 202-219-2460, john.smith@ferc.fed.us.

j. Deadline for filing comments: July 27, 2001. Reply comments due August 11, 2001.

All documents (original and eight copies) should be filed with: David P. Boergers, Secretary, Federal Energy Regulatory Commission, 888 First Street, NE, Washington, DC 20426. Comments, protests and interventions may be filed electronically via the internet in lieu of paper. See, 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Filing: PacifiCorp filed the Settlement Agreement on behalf of itself and the U.S. Department of Agriculture's Forest Service, U.S. Department of Commerce's National Maritime Fisheries Service, U.S. Department of the Interior's Fish and Wildlife Service and Bureau of Land Management, Oregon Department of Environmental Quality, Oregon Department of Fish and Wildlife, and Oregon Water Resources Department. The purpose of the Settlement Agreement is to resolve among the signatories all issues regarding relicensing of the North Umpqua Hydroelectric Project (FERC Project No. 1927). The signatories request that the Commission accept and incorporate, without material modification, as license articles in the new license all of the Governmental Parties' Final Terms and Conditions filed with the Commission in connection with this agreement. Comments and reply comments on the Settlement Agreement are due on the dates listed above.

l. Copies of the Settlement Agreement are available for inspection and reproduction at the Commission's Public Reference Room, located at 888 First Street, NE, Room 2-A, Washington, DC 20426, or by calling (202) 208-1371. This filing may be viewed on http://www.ferc.fed.us/online/rims.htm (call (202) 208-2222 for assistance). Copies are also available for inspection and reproduction at the address in item h above.

Linwood A. Watson, Jr.,
Acting Secretary.

[FR Doc. 01-16641 Filed 7-2-01; 8:45 am]

BILLING CODE 6717-01-M